DEPARTMENT OF HEALTH AND HUMAN SERVICES

Centers for Disease Control and Prevention

National Institute for Occupational Safety and Health (NIOSH); Advisory Board on Radiation and Worker Health

In accordance with section 10(a)(2) of the Federal Advisory Committee Act (Pub. L. 92-463), the Centers for Disease Control and Prevention announces the following committee meeting:

Name: Advisory Board on Radiation and Worker Health (ABRWH), National Institute for Occupational Safety and Health and Subcommittee for Dose Reconstruction and Site Profile Reviews (SDRSPR).

Subcommittee Meeting Time and Date: 9 a.m.-12 p.m., September 19, 2006.

Committee Meeting Times and Dates:

1 p.m.-4:45 p.m., September 19, 2006.

8:30 a.m.-5 p.m., September 20, 2006.

8:30 a.m.-5 p.m., September 21, 2006.

Public Comment Times and Dates:

5 p.m.-6 p.m., September 19, 2006.

7:30 p.m.-8:30 p.m., September 20, 2006.

Place: Westin Casuarina, 160 E. Flamingo Road, Las Vegas, Nevada 89169. Phone 702.836.5900, Fax 702.836.5990.

Status: Open to the public, limited only by the space available. The meeting space accommodates approximately 75 to 100 people.

Background: The Advisory Board was established under the Energy Employees Occupational Illness Compensation Program Act of 2000 to advise the President on a variety of policy and technical functions required to implement and effectively manage the new compensation program. Key functions of the Advisory Board include providing advice on the development of probability of causation guidelines which have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC).

In December 2000, the President delegated responsibility for funding, staffing, and operating the Advisory Board to HHS, which subsequently delegated this authority to the CDC. NIOSH implements this responsibility for CDC. The charter was issued on August 3, 2001, renewed at appropriate intervals, and will expire on August 3, 2007.

Purpose: This Advisory Board is charged with (a) providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: The agenda for the Subcommittee meeting includes Individual Dose Reconstruction Reviews and Procedures Reviews; Subcommittee Operations and Future Plans. The agenda for the Advisory Board meeting includes Presentation of SEC Petitions for Oak Ridge Institute of Nuclear Studies (ORINS), Chapman Valve, S-50 Thermal, and Los Alamos National Laboratory (LANL) (Radioactive Lanthanum Exposure); Updates on SEC Petitions for Nevada Test Site (NTS), Pacific Proving Ground (PPG), Ames Laboratory, and Rocky Flats Plant; Working Group Reports on the Savannah River Site (SRS) Profile, NTS Site Profile, and SEC Petitions; Individual Dose Reconstruction Reviews; Procedures Review; NIOSH Conflict of Interest Policy; Board Conflict of Interest Policy; Status and Future Funding of Sanford Cohen & Associates (SC&A) Contract; Science Issues Updates; Charter for New Subcommittee; Working Group and Subcommittee Assignments; NIOSH, Office of Compensation Analysis and Support (OCAS) and Department of Labor (DOL) Status Reports; Board Correspondence; Board Future Plans, and Board Working Time. The agenda is subject to change as priorities dictate.

In the event an individual cannot attend, written comments may be submitted. Any written comments should be submitted to the contact person below well in advance of the meeting, and the comments will be provided at the meeting.

For Further Information Contact: Dr. Lewis V. Wade, Executive Secretary, NIOSH, CDC, 4676 Columbia Parkway, Cincinnati, Ohio 45226, Telephone 513.533.6825, Fax 513.533.6826.

The Director, Management Analysis and Services Office, has been delegated the authority to sign Federal Register notices pertaining to announcements of meetings and other committee management activities, for both CDC and the Agency for Toxic Substances and Disease Registry.

Dated: August 31, 2006.
Alvin Hall,
Director, Management Analysis and Services Office, Centers for Disease Control and Prevention.

[FR Doc. E6-14787 Filed 9-6-06; 8:45 am]

BILLING CODE 4163-18-P